DEPARTMENT OF TRANSPORTATION

Federal Railroad Administration

Petition for Waiver of Compliance

In accordance with Part 211 of Title 49 of the Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Norfolk Southern Corporation

[Waiver Petition Docket Number FRA-2009-0064]

Norfolk Southern Corporation (NS) has petitioned FRA for a waiver from 49 CFR 213.113(a) to permit variance from the accepted practice of stop/start rail test hand verification for a continuous rail test pilot project. The pilot project will be conducted for a period of 2 years on all main line tracks of the CNO & TP on the Central division between Cincinnati, Ohio and Chattanooga, Tennessee, milepost limits 2.4 to 338.2. NS also states that prior to beginning the pilot project, the Central division main tracks will be rail tested with a conventional stop/start rail test vehicle and any normally scheduled intervals during the pilot project will be maintained by convention stop/start rail test vehicle.

The continuous high speed rail test vehicle will be a self propelled rail-bound ultrasound Sperry car operating at speeds up to 25 miles per hour in non-stop mode making weekly runs. Upon completion of each run, data will be analyzed offline by a group of experts with experience in this process. The analysis will categorize and prioritize suspect defect locations. Three teams of verifiers will then be sent out with field instruments to check locations based upon GPS coordinates. Locations will be checked 60 feet; either side of suspect GPS point. Remedial actions will be applied as per CFR 213.113 for confirmed rail defects.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0064) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on July 10, 2009.
Grady C. Cothen, Jr.,
Deputy Associate Administrator for Safety Standards and Program Development.

[FR Doc. E9-16919 Filed 7-15-09; 8:45 am]

BILLING CODE 4910-06-P